DEPARTMENT OF ENERGY

Federal Energy Regulatory Commission

[Docket Nos. RP04-91-005 and RP05-104-002]

Questar Pipeline Company; Notice of Compliance Filing

August 10, 2005.

Take notice that on August 4, 2005, Questar Pipeline Company (Questar), tendered for filing as part of its FERC Gas Tariff, First Revised Volume No. 1 and Original Volume No. 3, to be effective as indicated for each tariff sheet:

First Revised Volume No. 1

First Revised Thirty-Third Revised Sheet No. 5, effective June 1, 2005. First Revised Substitute Thirty-Fourth Revised Sheet No. 5, effective June 21, 2005. First Revised Substitute Thirty-Fifth Revised Sheet No. 5, effective July 25, 2005. First Revised Fifteenth Revised Sheet No. 5A, effective June 1, 2005. First Revised Sixteenth Revised Sheet No. 5A, effective June 21, 2005. First Revised Seventeenth Revised Sheet No. 5A, effective July 25, 2005.

Original Volume No. 3

First Revised Fortieth Revised Sheet No. 8, effective June 1, 2005. First Revised Forty-First Revised Sheet No. 8, effective August 15, 2005.

On June 17, 2005, Questar filed an uncontested offer of settlement to resolve all issued raised in these proceedings concerning Questar's Fuel Gas Reimbursement Percentage (FGRP). The Commission's July 26 order approved the settlement and directed Questar to file tariff sheets within ten days to implement the tariff provisions consistent with the settlement. Questar states that this filing was submitted in compliance with the Commission's directives.

In the intervening time period between the June 1, 2005, effective date of the settlement and the present time, additional tariff sheets have been filed in separate proceedings that contain the previous FGRP of 2.6 percent. This filing proposes to also submit conforming changes to those sheets consistent with the July 26 order. These revised tariff sheets will contain effective dates according to the proceedings in which they originated and will include the new FGRP of 2.1 percent and a corresponding footnote explaining the FGRP provisions.

Questar states that copies of this filing were served upon Questar's customers, the Public Service Commission of Utah and the Public Service Commission of Wyoming.

Any person desiring to protest this filing must file in accordance with Rule 211 of the Commission's Rules of Practice and Procedure (18 CFR 385.211). Protests to this filing will be considered by the Commission in determining the appropriate action to be taken, but will not serve to make protestants parties to the proceeding. Such protests must be filed in accordance with the provisions of Section 154.210 of the Commission's regulations (18 CFR 154.210). Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Linda Mitry,
Deputy Secretary.

[FR Doc. E5-4440 Filed 8-15-05; 8:45 am]

BILLING CODE 6717-01-P